DEPARTMENT OF COMMERCE

International Trade Administration

[A-533-845]

Notice of Amended Preliminary Determination of Sales at Less Than Fair Value: Glycine From India

AGENCY: Import Administration, International Trade Administration, Department of Commerce.

DATES: Effective Date: November 7, 2007.

SUMMARY: The purpose of this amended preliminary determination is to clarify an inadvertent error in the preliminary determination we issued on October 26, 2007, that imports of glycine from India are being, or are likely to be, sold in the United States at less than fair value, as provided in section 733(b) of the Tariff Act of 1930, as amended (the Act).

FOR FURTHER INFORMATION CONTACT: George Callen or Richard Rimlinger, AD/CVD Operations, Office 5, Import Administration, International Trade Administration, U.S. Department of Commerce, 14th Street and Constitution Avenue, NW., Washington, DC 20230; telephone: (202) 482-0180 and (202) 482-4477, respectively.

SUPPLEMENTARY INFORMATION:

Background

We initiated an antidumping investigation on glycine from India. See Glycine from India, Japan, and the Republic of Korea: Initiation of Antidumping Duty Investigations, 72 FR 20816 (April 26, 2007). On October 26, 2007, we issued our preliminary determination of sales at less than fair value (not yet published). We stated in our October 26, 2007, preliminary determination that we used total facts available, including an adverse inference, for one firm, Nutracare International/Salvi Chemical Industries (Salvi), which did not respond to our quantity and value (Q&V) questionnaire and, therefore, withheld requested information and significantly impeded this proceeding pursuant to section 776(a) of the Act. We stated further that, because it did not cooperate by not acting to the best of its ability, in reaching our preliminary determination we applied total adverse facts available to Salvi pursuant to section 776(b) of the Act.

There were nine firms in addition to Salvi which did not respond to our Q&V questionnaire and, to clarify our inadvertent error of omission of these firms, we are amending our preliminary determination. The firms which failed to respond to our request for information and for which we are applying adverse facts available in accordance with sections 776(a) and 776(b) of the Act are as follows: Abhiyan Media Pvt. Ltd., Ashok Alco-Chem, Ltd., Bimal Pharma, Pvt., Ltd., Euro Asian Industrial Co., EPIC Enzymes Pharmaceuticals & Industrial, Indian Chemical Industries, Kumar Industries, Sisco Research Laboratories Pvt. Ltd, and Sealink International, Inc.

Amended Preliminary Determination

We preliminarily determine that the following weighted-average dumping margins exist for the period January 1, 2006, through December 31, 2006:

Manufacturer/exporter | Weighted-average margin (percent)
Paras Intermediates Ltd. | 0.00
Abhiyan Media Pvt. Ltd. | 121.62
Advanced Exports/Aico Laboratories | 121.62
Ashok Alco-Chem, Ltd. | 121.62
Bimal Pharma, Pvt., Ltd. | 121.62
Euro Asian Industrial Co. | 121.62
EPIC Enzymes Pharmaceuticals & Industrial | 121.62
Indian Chemical Industries | 121.62
Kumar Industries | 121.62
Nutracare International/Salvi Chemical Industries | 121.62
Sisco Research Laboratories Pvt. Ltd. | 121.62
Sealink International, Inc. | 121.62
All Others | 45.82

Suspension of Liquidation

In accordance with section 733(d) of the Act, we will instruct U.S. Customs and Border Protection (CBP) to suspend liquidation of all entries of glycine from India that are entered, or withdrawn from warehouse, for consumption on or after the date of publication of this notice in the Federal Register. We will instruct CBP to require a cash deposit or the posting of a bond equal to the weighted-average margin, as indicated in the chart above, as follows: (1) The rates for the mandatory respondents except Paras will be the rates we have determined in this preliminary determination; (2) if the exporter is not a firm identified in this investigation but the producer is, the rate will be the rate established for the producer of the subject merchandise; (3) the rate for all other producers or exporters will be 45.82 percent. These suspension-of-liquidation instructions will remain in effect until further notice.

In accordance with 19 CFR 351.204(e)(2), because the weighted-average margin for Paras is zero, we will not instruct CBP to suspend liquidation of merchandise produced and exported by Paras.

International Trade Commission Notification

In accordance with section 733(f) of the Act, we have notified the ITC of our amended preliminary determination of sales at less than fair value. If our final antidumping determination is affirmative, the ITC will determine whether the imports covered by that determination are materially injuring, or threatening material injury to, the U.S. industry. The deadline for the ITC's determination would be the later of 120 days after the date of the preliminary determination or 45 days after the date of our final determination.

Public Comment

Interested parties are invited to comment on the amended preliminary determination. Interested parties may submit case briefs to the Department no later than seven days after the date of the issuance of the final verification report in this proceeding. Rebuttal briefs, the content of which is limited to the issues raised in the case briefs, must be filed within five days from the deadline for the submission of case briefs. Executive summaries should be limited to five pages total, including footnotes. Further, we request that parties submitting briefs and rebuttal briefs provide us with a copy of the public version of such briefs on diskette.

Section 774 of the Act provides that the Department will hold a hearing to afford interested parties an opportunity to comment on arguments raised in case or rebuttal briefs, provided that such a hearing is requested by an interested party. If a request for a hearing is made in this investigation, the hearing normally will be held two days after the deadline for submission of the rebuttal briefs at the U.S. Department of Commerce, 14th Street and Constitution Avenue, NW., Washington, DC 20230. Parties should confirm by telephone the time, date, and place of the hearing 48 hours before the scheduled time. Interested parties who wish to request a hearing, or to participate if one is requested, must submit a written request within 30 days of the publication of this notice. Requests should specify the number of participants and provide a list of the issues to be discussed. Oral presentations will be limited to issues raised in the briefs. We will make our final determination within 75 days after the date of the preliminary determination.

This determination is issued and published pursuant to sections 733(f) and 777(i)(1) of the Act.

Dated: November 1, 2007.
David M. Spooner,
Assistant Secretary for Import Administration.

[FR Doc. E7-21872 Filed 11-6-07; 8:45 am]

BILLING CODE 3510-DS-P